OFFICE OF THE UNITED STATES TRADE REPRESENTATIVE

Request for Comments Concerning an Environmental Review of the Proposed Trade in Services Agreement

AGENCY: Office of the United States Trade Representative

ACTION: Notice of intent to conduct an environmental review of the proposed Trade in Services Agreement and request for comments.

SUMMARY: The Office of the United States Trade Representative (USTR), through the Trade Policy Staff Committee (TPSC), is initiating an environmental review of the Trade in Services Agreement (TiSA) currently being negotiated among 23 economies, including the United States. The TPSC invites written comments from the public on the topics that should be included in the scope of the environmental review, including potential positive or negative environmental effects that might result from the trade agreement and potential implications for U.S. environmental laws and regulations. The TPSC also welcomes public views on appropriate methodologies and sources of data for conducting the review. The review will be conducted consistent with the relevant procedures of Executive Order 13141: Environmental Review of Trade Agreement (64 FR 63169, November 18, 1999) and its implementing guidelines (65 FR 79442, December 19, 2000). Persons submitting written comments should provide as much detail as possible on the manner and degree to which the subject matter they propose for inclusion in the review may raise significant environmental issues that should be considered in the context of the negotiations. Public comments on environmental issues submitted in response to prior notices (78 FR 5238, January 24, 2013) and (78 FR 55135, September 9, 2013) requesting comments from the public regarding the TiSA will be taken into account in preparing the environmental review and do not need to be resubmitted.

DATES: Comments should be submitted on or before September 2, 2014, to be assured of timely consideration by the TPSC.

ADDRESSES: Public comments should be submitted electronically to www.regulations.gov, docket number USTR 2014-0011. If you are unable to provide submissions by www.regulations.gov, please contact Ms. Yvonne Jamison (202-395-3475) to arrange for an alternative method of transmission.

FOR FURTHER INFORMATION CONTACT: Questions regarding the submission of comments in response to this notice should be directed to Ms. Yvonne Jamison at (202) 395-3475. Questions concerning the environmental review should be addressed to Ms. Leslie Yang at (202) 395-7320.

SUPPLEMENTARY INFORMATION:

1. Background Information

On January 15, 2013, USTR notified Congress of the President's intent to enter into negotiations for an international services agreement with an initial group of 20 trading partners. Twenty-three economies are presently participating in TiSA negotiations: Australia, Canada, Chile, Colombia, Costa Rica, the European Union, Hong Kong, Iceland, Israel, Japan, Liechtenstein, Mexico, New Zealand, Norway, Pakistan, Panama, Paraguay, Peru, the Republic of Korea, Switzerland, Taiwan, Turkey, and the United States. Through a notice in the Federal Register and a public hearing (held March 12, 2013, in Washington, DC), the TPSC invited the public to provide written comments and/or oral testimony to assist USTR in assessing U.S. objectives for the proposed agreement (see 78 FR 5238, January 24, 2013). Through a subsequent notice in the Federal Register, the TPSC invited the public to provide written comments to assist USTR in assessing U.S. objectives regarding the participation of Paraguay and Liechtenstein (additions to the initial group of TiSA participants) (78 FR 55135, September 9, 2013). Additional information about the proposed TiSA can be found at http://www.ustr.gov/trade-topics/services-investment/services.

2. Environmental Review

USTR, through the TPSC, will conduct an environmental review of the agreement consistent with Executive Order 13141 (64 FR 63169, November 18, 1999) and its implementing guidelines (65 FR 79442, December 19, 2000). The purpose of environmental reviews is to ensure that policymakers and the public are informed about reasonably foreseeable environmental impacts of trade agreements (both positive and negative), to identify complementarities between trade and environmental objectives, and to help shape appropriate responses if environmental impacts are identified. Reviews are intended to be one tool, among others, for integrating environmental information and analysis into the fluid, dynamic process of trade negotiations. USTR and the Council on Environmental Quality jointly oversee implementation of the Executive Order and its implementing guidelines. USTR, through the TPSC, is responsible for conducting the individual reviews. Additional background information and examples of prior environmental reviews are available at: http://www.ustr.gov/trade-topics/environment/environmental-reviews.

3. Requirements for Submissions

Persons submitting comments must do so in English and must identify (on the first page of the submission) “Comments Regarding the Trade in Services Agreement (TiSA) Environmental Review.” In order to be assured of consideration, comments should be submitted by September 2, 2014. In order to ensure the timely receipt and consideration of comments, USTR strongly encourages commenters to make on-line submissions, using the www.regulations.gov Web site. To submit comments via www.regulations.gov, enter docket number USTR 2014-0011 on the home page and click “search.” The site will provide a search-results page listing all documents associated with this docket. Find a reference to this notice and click on the link entitled “Comment Now!” (For further information on using the www.regulations.gov Web site, please consult the resources provided on the Web site by clicking on “How to Use This Site” on the left side of the home page).

The www.regulations.gov Web site allows users to provide comments by filling in a “Type Comment” field, or by attaching a document using an “Upload File” field. USTR prefers that comments be provided in an attached document. USTR prefers submissions in Microsoft Word (.doc) or Adobe Acrobat (.pdf). If the submission is in an application other than those two, please indicate the name of the application in the “Type Comment” field.

For any comments submitted electronically containing business confidential information, the file name of the business confidential version should begin with the characters “BC”. Any page containing business confidential information must be clearly marked “BUSINESS CONFIDENTIAL” on the top of that page. Filers of submissions containing business confidential information must also submit a public version of their comments. The file name of the public version should begin with the character “P”. The “BC” and “P” should be followed by the name of the person or entity submitting the comments. Filers submitting comments containing no business confidential information should name their file using the name of the person or entity submitting the comments.

Please do not attach separate cover letters to electronic submissions; rather, include any information that might appear in a cover letter in the submission itself. Similarly, to the extent possible, please include any exhibits, annexes, or other attachments in the same file as the submission itself, not as separate files.

As noted, USTR strongly urges submitters to file comments through the www.regulations.gov Web site if at all possible. Any alternative arrangements must be made with Ms. Jamison in advance of transmitting a comment. Ms. Jamison may be contacted at (202) 395-3475. General information concerning USTR is available at www.ustr.gov.

Comments will be placed in the docket and open to public inspection, except business confidential information. Comments may be viewed on the www.regulations.gov Web site by entering the relevant docket number in the search field on the home page.

Douglas Bell,
Chair, Trade Policy Staff Committee.

[FR Doc. 2014-15489 Filed 7-1-14; 8:45 am]

BILLING CODE 3290-F4-P